DEPARTMENT OF HEALTH AND HUMAN SERVICES

Centers for Disease Control and Prevention

Performance Review Board Members

AGENCY: Centers for Disease Control and Prevention (CDC), Department of Health and Human Services (HHS).

ACTION: Notice.

SUMMARY: The Centers for Disease Control and Prevention (CDC) located within the Department of Health and Human Services (HHS) is publishing the names of the Performance Review Board Members who are reviewing performance of Senior Executive Service members, Title 42 executives, Senior Level, and Scientific Professional employees for Fiscal Year 2023.

FOR FURTHER INFORMATION CONTACT: Eva Harrison, Human Resources Office, Centers for Disease Control and Prevention, 1600 Clifton Road NE, MS US11-2, Atlanta, Georgia 30329-4027, Telephone (404) 783-7410.

SUPPLEMENTARY INFORMATION: Title 5, U.S.C. 4314(c)(4) of the Civil Service Reform Act of 1978, Public Law 95-454, requires that the appointment of Performance Review Board Members be published in the Federal Register. The following persons will serve on the CDC Performance Review Board, which will oversee the evaluation of performance appraisals of Senior Executive Service members for the fiscal year 2023 review period:

Bonander, Jason

Dauphin, Leslie

Dulin, Stephanie

Durst, Kelley

Ethier, Kathleen, Co-Chair

Kuhnert, Wendi

Lindsey, Ronney L.

Peeples, Amy

Perry, Terrance

Taylor, Dia, Co-Chair

Tomlinson, Hank

Wharton, Melinda

Dated: August 31, 2023.
Tiffany Brown,
Executive Secretary, Centers for Disease Control and Prevention.

[FR Doc. 2023-19166 Filed 9-5-23; 8:45 am]

BILLING CODE 4163-18-P